Title 3—

The President

Proclamation 7315 of May 26, 2000

Prayer for Peace, Memorial Day, 2000

By the President of the United States of America

A Proclamation

For many Americans, Memorial Day has come to signify the beginning of summer, the opening of the neighborhood pool, and a time for picnics and barbecues. In the midst of these festivities, however, we can too often overlook the holiday's true meaning. Memorial Day was first observed in 1868 in remembrance of those who died in the Civil War; since then our Nation has set this day aside as a solemn occasion on which to pay tribute to all the men and women who have died in service to our country.

Throughout our Nation's history, brave Americans have donned our country's uniform to defend our freedom and uphold our values, often far from home and in the face of grave danger. From the battles of the Revolutionary War through the epic struggles of World Wars I and II to today's peacekeeping missions in a world with sophisticated weapons and terrorist threats, the men and women of our Armed Forces have served with skill and courage. While the challenges they face have changed with each passing year, their devotion to duty and to country has remained steadfast.

For more than a million Americans, that devotion cost them their lives but secured for us priceless freedom, peace, and security. While we should remember these patriots every day for the profound contribution they have made to our Nation, we should honor them with special gratitude on Memorial Day.

This year, to reaffirm the true meaning of Memorial Day, we begin a new tradition by observing a “National Moment of Remembrance.” I ask all Americans to unite on Memorial Day in acknowledging the service of America's fallen heroes. Let us reflect on the profound debt we owe to those brave men and women who gave their lives for our Nation, and let us teach current and future generations that our freedom, peace, and prosperity were achieved only through the sacrifice of those who came before them.

In recognition of those courageous Americans, the Congress, by joint resolution approved on May 11, 1950 (64 Stat. 158), has requested the President to issue a proclamation calling upon the people of the United States to observe each Memorial Day as a day of prayer for permanent peace and designating a period on that day when the American people might unite in prayer. In support of the new tradition of a National Moment of Remembrance, the Congress has passed H.Con.Res. 302 calling on the people of the United States to observe a National Moment of Remembrance on Memorial Day.

NOW, THEREFORE, I, WILLIAM J. CLINTON, President of the United States of America, do hereby proclaim Memorial Day, May 29, 2000, as a day of prayer for permanent peace, and I designate 3:00 p.m. local time on that day as the time to join in prayer and to observe the National Moment of Remembrance. I urge the press, radio, television, and all other media to participate in this observance.

I also request the Governors of the United States and the Commonwealth of Puerto Rico, and the appropriate officials of all units of government, to direct that the flag be flown at half-staff until noon on this Memorial Day on all buildings, grounds, and naval vessels throughout the United States and in all areas under its jurisdiction and control, and I request the people of the United States to display the flag at half-staff from their homes for the customary forenoon period.

IN WITNESS WHEREOF, I have hereunto set my hand this twenty-sixth day of May, in the year of our Lord two thousand, and of the Independence of the United States of America the two hundred and twenty-fourth.

wj

[FR Doc. 00-13829

Filed 5-30-00; 12:14 pm]

Billing code 3195-01-P